DEPARTMENT OF LABOR

Employment and Training Administration

[TA-W-70,324]

Delphi Packard Electrical/Electronic Architecture, a Subsidiary of Delphi Corporation, Including On-Site Leased Workers From Bartech and EDS, an HP Company, Warren, OH; Amended Certification Regarding Eligibility To Apply for Worker Adjustment Assistance

In accordance with section 223 of the Trade Act of 1974, as amended (“Act”), 19 U.S.C. 2273, the Department of Labor issued a Certification of Eligibility to Apply for Worker Adjustment Assistance on December 8th, 2009, applicable to workers of Delphi Packard Electrical/Electronic Architecture, a subsidiary of Delphi Corporation, including on-site leased workers from Bartech and EDS, an HP Company, Warren, Ohio. The notice was published in the Federal Register on January 25, 2010 (75 FR 3930).

At the request of the State Agency, the Department reviewed the certification for workers of the subject firm. The workers are engaged in the production of wiring and connector components.

The company reports that on-site leased workers from EDS, an HP Company, were employed on-site at the Warren, Ohio location of Delphi Packard Electrical/Electronic Architecture, a subsidiary of Delphi Corporation. The Department has determined that these workers were sufficiently under the control of the subject firm to be considered leased workers.

Based on these findings, the Department is amending this certification to include workers leased from EDS, an HP Company, working on-site at the Warren, Ohio location of Delphi Packard Electrical/Electronic Architecture, a subsidiary of Delphi Corporation.

The amended notice applicable to TA-W-70,324 is hereby issued as follows:

All workers of Delphi Packard Electrical/Electronic Architecture, a subsidiary of Delphi Corporation, including on-site leased workers from Bartech and EDS, an HP Company, Warren, Ohio (TA-W-70,324), Delphi Packard Electrical/Electronic Architecture, a subsidiary of Delphi Corporation, including on-site leased workers from Bartech, Rootstown, Ohio (TA-W-70,324A), Delphi Packard Electrical/Electronic Architecture, a subsidiary of Delphi Corporation, including on-site leased workers from Bartech, Vienna, Ohio (TA-W-70,32B), Delphi Packard Electrical/Electronic Architecture, a subsidiary of Delphi Corporation, including on-site leased workers from Bartech, Howland, Ohio (TA-W-70,324C), Delphi Packard Electrical/Electronic Architecture, a subsidiary of Delphi Corporation, including on-site leased workers from Bartech, Cortland, Ohio (TA-W-70,324D), who became totally or partially separated from employment on or after May 19, 2008, through two years from the certification, and all workers in the group threatened with total or partial separation from employment on date of certification through two years from the date of certification, are eligible to apply for adjustment assistance under Chapter 2 of Title II of the Trade Act of 1974, as amended.

Signed in Washington, DC this 28th day of January 2010.
Michael W. Jaffe,
Certifying Officer, Division of Trade Adjustment Assistance.

[FR Doc. 2010-7321 Filed 3-31-10; 8:45 am]

BILLING CODE 4510-FN-P